DEPARTMENT OF STATE

[Public Notice 5259]

Shipping Coordinating Committee; Notice of Meeting

The Shipping Coordinating Committee (SHC) will conduct an open meeting at 1:30 p.m. on Wednesday, January 25, 2006, at the Hilton Hotel in Crystal City, Arlington, VA. The primary purpose of the meeting is to begin preparations for the 49th Session of the International Maritime Organization (IMO) Sub-Committee on Stability and Load Lines and on Fishing Vessels Safety to be held at IMO Headquarters in London, England from July 24th to 28th.

The primary matters to be considered include:

—Development of explanatory notes for harmonized SOLAS Chapter II-1;

—Passenger ship safety;

—Review of the Intact Stability Code;

—Safety of small fishing vessels;

—Tonnage measurement of open-top containerships.

Members of the public may attend this meeting up to the seating capacity of the room. Interested persons may seek information by writing to Mr. Paul Cojeen, Commandant (G-MSE), U.S. Coast Guard Headquarters, 2100 Second Street SW., Room 1308, Washington, DC 20593-0001 or by calling (202) 267-2988.

Dated: January 6, 2006.
Clay L. Diamond,
Executive Secretary, Shipping Coordinating Committee, Department of State.

[FR Doc. E6-242 Filed 1-11-06; 8:45 am]

BILLING CODE 4710-09-P